DEPARTMENT OF COMMERCE

National Oceanic and Atmospheric Administration

U.S. Integrated Ocean Observing System (IOOS®) Advisory Committee

AGENCY: National Ocean Service, National Oceanic and Atmospheric Administration (NOAA), Department of Commerce.

ACTION: Notice of open meeting.

SUMMARY: Notice is hereby given of a meeting of the U.S. Integrated Ocean Observing System (IOOS®) Advisory Committee (Committee) in Juneau, Alaska.

DATES AND TIMES: The meeting will be held on Tuesday, August 28, 2018, from 9:00 a.m. to 5:30 p.m., and Wednesday, August 29, 2018 from 9:00 a.m.-3:00 p.m. These times and the agenda topics described below are subject to change. Refer to the web page listed below for the most up-to-date agenda.

ADDRESSES: On Tuesday, August 28th from 9:00 a.m. to 12:00 p.m. the meeting will be held at the Elizabeth Peratrovich Hall Conference Center, 320 W Willoughby Ave, Juneau, AK. This will be a half-day joint meeting with NOAA's Hydrographic Services Review Panel on topics of joint interest such as water level partnerships. From 2:00 to 5:30 p.m., the IOOS Advisory Committee meeting will be held at the Westmark Baranof Hotel, 127 N Franklin Street, Juneau, AK. On Wednesday, August 29th, the meeting will be held from 9:00 a.m. to 3:00 p.m. at the NOAA Fisheries Auke Bay Lab, 17109 Point Lena Loop Road, Juneau, AK. Venues may be subject to change. Refer to the web page listed below for the most up-to-date information.

FOR FURTHER INFORMATION CONTACT: Jessica Snowden, Designated Federal Official, U.S. IOOS Advisory Committee, U.S. IOOS Program, 1315 East-West Highway, Station 2612, Silver Spring, MD 20910; Phone 240-533-9466; Fax 301-713-3281; Email jessica.snowden@noaa.gov or visit the U.S. IOOS Advisory Committee website at http://ioos.noaa.gov/community/u-s-ioos-advisory-committee/.

SUPPLEMENTARY INFORMATION: The Committee was established by the NOAA Administrator as directed by Section 12304 of the Integrated Coastal and Ocean Observation System Act, part of the Omnibus Public Land Management Act of 2009 (Pub. L. 111-11). The Committee advises the NOAA Administrator and the Interagency Ocean Observation Committee (IOOC) on matters related to the responsibilities and authorities set forth in section 12302 of the Integrated Coastal and Ocean Observation System Act of 2009 and other appropriate matters as the Under Secretary refers to the Committee for review and advice.

The Committee will provide advice on:

(a) Administration, operation, management, and maintenance of the System;

(b) expansion and periodic modernization and upgrade of technology components of the System;

(c) identification of end-user communities, their needs for information provided by the System, and the System's effectiveness in dissemination information to end-user communities and to the general public; and

(d) any other purpose identified by the Under Secretary of Commerce for Oceans and Atmosphere or the Interagency Ocean Observation Committee.

The meeting will be open to public participation with a 15-minute public comment period on August 28, 2018, from 5:00 p.m. to 5:15 p.m., and on August 29, 2018, from 2:45 p.m. to 3:00 p.m. (check agenda on website to confirm time.) The Committee expects that public statements presented at its meetings will not be repetitive of previously submitted verbal or written statements. In general, each individual or group making a verbal presentation will be limited to a total time of three (3) minutes. Written comments should be received by the Designated Federal Official by August 21, 2018 to provide sufficient time for Committee review. Written comments received after August 21st will be distributed to the Committee, but may not be reviewed prior to the meeting date. Seats will be available on a first-come, first-served basis. A webinar will be provided. Sign-up information for the webinar will be posted on the website.

Matters To Be Considered: The meeting will focus on ongoing committee priorities, including discussions of stakeholder needs specific to the Alaska and Arctic regions and developing the next set of recommendations. The latest version of the agenda will be posted at http://ioos.noaa.gov/community/u-s-ioos-advisory-committee/.

Special Accomodations: These meetings are physically accessible to people with disabilities. Requests for sign language interpretation or other auxiliary aids should be directed to Jessica Snowden, Designated Federal Official at 240-533-9466 by August 20, 2018.

Dated: July 17, 2018.
Carl C. Gouldman,
Director, U.S. IOOS Program, National Ocean Service.

[FR Doc. 2018-16286 Filed 7-30-18; 8:45 am]

BILLING CODE 3510-22-P